DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before April 13, 2018.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on March 1, 2018.
Donald Burger,
Chief, General Approvals and Permits Branch.

Application No. | Applicant | Regulation(s) affected | Nature of the special permits thereof
SPECIAL PERMITS DATA—Granted
11323-M | SHARPSVILLE CONTAINER CORPORATION | 173.302a(a)(1), | To modify the special permit to authorize an additional stainless steel cylinder.
14313-M | AIRGAS USA LLC | 172.203(a), 172.301(c), 173.302a(b), 180.205 | To modify the special permit to remove the requirement for an annual gain control linearity check and replace it with a one time certification from the manufacturer generated at the time of the system manufacture.
14832-M | TRINITY INDUSTRIES, INC | 172.203(a), 173.31(e)(2)(iii), 179.100-12(c) | To modify the special permit to authorize an additional toxic by inhalation material.
15647-M | FIBA TECHNOLOGIES, INC | 179.7, 180.505, 180.519(b)(6) | To modify the special permit to authorize visual inspection for certain tanks rather than hydrostatic testing.
15980-M | WINDWARD AVIATION INC | 172.400, 172.200, 172.300, 173.27, 175.33, 175.75 | To modify the special permit to authorize additional Class 2.1, 3, and 8 hazmat.
16232-M | LINDE GAS NORTH AMERICA LLC | 171.23(a), 171.23(a)(2)(ii), 171.23(a)(3), 173.301(f)(3), 173.301(g) | To modify the special permit to authorize additional cylinders for the transportation in commerce of Xenon/Krypton.
20350-N | STRATO, INC | 179.7(b)(8) | To authorize the manufacture, mark, sell, and use of tank car service equipment manufactured under a previously valid Class F registration.
20425-N | COMPOSITE ADVANCED TECHNOLOGIES CNG | 173.302(a) | To authorize the transportation in commerce of non-DOT specification over wrapped carbon fiber and epoxy composite reinforced cylinder.
20441-M | SPACEFLIGHT, INC | 173.185(a) | To modify the special permit from emergency to routine.
20525-N | AVFUEL CORPORATION | 180.407(a) | To authorize the transportation in commerce of certain non-DOT specification cargo tanks (airport refueller trucks) containing a residue of gasoline and aviation fuel.
20541-N | ISGEC HEAVY ENGINEERING LTD | 179.300-19(a) | To authorize the manufacture, mark, sale, and use of DOT specification tank cars that have been inspected outside of the United States.
20549-N | CORNERSTONE ARCHITECTURAL PRODUCTS LLC | 172.400, 172.700(a), 172.102(c)(1), 172.200, 172.300 | To authorize the manufacture, marking, sale and use of non-DOT specification fiberboard boxes for the transportation in commerce of certain batteries without shipping papers, marking of the proper shipping name and identification number or labeling, when transported for recycling or disposal.
20566-N | UNIVERSITY OF LOUISIANA AT LAFAYETTE | 173.199(a) | To authorize the transportation in commerce of category B infectious substances.
20571-N | CATALINA CYLINDERS, INC | 173.302a, 178.71(l)(1)(i), 178.71(l)(1)(ii) | To authorize the manufacture, mark, sale, and use of non-DOT specification cylinders meeting the requirements of ISO 11119-2, except as specified in the special permit.
20584-N | BATTERY SOLUTIONS, LLC | 173.185(f)(3) | To authorize the manufacture, mark, sale and use of certain drums for the transportation in commerce of certain damaged or defective lithium ion cells and batteries and lithium metal cells and batteries.
20597-N | DEPARTMENT OF DEFENSE (MILITARY SURFACE DEPLOYMENT & DISTRIBUTION COMMAND) | 173.220 | To authorize the transportation of remotely piloted vehicles which are fueled while in transportation.
20600-N | FIREAWAY INC | 173.56(b) | To authorize the manufacture, mark, sale, and use of fire extinguishing and suppression articles shipped as UN3268, Safety Devices.
20601-N | Capella Space Corp | 173.185(a) | To authorize the transportation in commerce of low production lithium batteries contained in equipment via cargo-only aircraft.
20609-N | AUTOLIV ASP, INC | 172.700(a), 172.200(a), 172.203(a), 172.302(c) | To authorize the transportation in commerce of hazmat that has been packaged by individuals who are not fully hazmat trained.
SPECIAL PERMITS DATA—Denied
20545-N | STANDARD FUSEE CORPORATION | 172.401, 172.101, 172.202, 172.301 | To authorize the transportation in commerce of certain explosive materials reclassed as Division 4.1.
20560-N | CYTEC INDUSTRIES INC | 172.400, 172.200, 172.301, 173.213 | To authorize the transportation in commerce of phosphorus contained in manufactured articles in non-DOT specification packaging without certain hazard communication.
SPECIAL PERMITS DATA—Withdrawn
20518-N | COLEP PORTUGAL, S.A | 178.33-7 | To authorize manufacture, mark, sale and use of non-DOT specification Aerosol cans conforming with all regulations applicable to a DOT specification (2P and 2Q), except for the wall thickness.
20578-N | JAMES ALEXANDER CORP | 172.101(j), 172.101(j), 173.27(b), 173.27(b) | To authorize the transportation in commerce of articles containing 40-60% hydrogen peroxide by aircraft.
20605-N | GUARDIAN HELICOPTERS, INC | 172.101(j), 172.200, 172.204(c)(3), 172.301(c), 173.1, 173.27(b)(2), 175.30(a)(1), 175.75 | To authorize the transportation in commerce of certain hazardous materials by 14 CFR Part 133 cargo-only aircraft (rotorcraft external load operations) transporting hazardous materials attached to or suspended from the aircraft, and Part 135, as applicable, in remote areas of the US only, without being subject to certain hazard communication requirements, quantity limitations and certain loading and stowage requirements.

[FR Doc. 2018-05129 Filed 3-13-18; 8:45 am]

BILLING CODE 4909-60-P